NATIONAL FOUNDATION ON THE ARTS AND THE HUMANITIES

National Endowment for the Humanities

Meeting of Humanities Panel

AGENCY: National Endowment for the Humanities; National Foundation on the Arts and the Humanities.

ACTION: Notice of meeting.

SUMMARY: The National Endowment for the Humanities (NEH) will hold seven additional meetings, by video conference, of the Humanities Panel, a federal advisory committee, in March 2024, and thirty-four meetings during April 2024. The purpose of the meetings is for panel review, discussion, evaluation, and recommendation of applications for financial assistance under the National Foundation on the Arts and the Humanities Act of 1965.

DATES: See SUPPLEMENTARY INFORMATION for meeting dates. The meetings will open at 8:30 a.m. and will adjourn by 5 p.m. on the dates specified below.

FOR FURTHER INFORMATION CONTACT: Elizabeth Voyatzis, Committee Management Officer, 400 7th Street SW, Room 4060, Washington, DC 20506; (202) 606-8322; evoyatzis@neh.gov.

SUPPLEMENTARY INFORMATION: Pursuant to section 10(a)(2) of the Federal Advisory Committee Act (5 U.S.C. 10), notice is hereby given of the following meetings:

1. Date: March 25, 2024.

This video meeting will discuss applications on the topics of Education and Literacies, for the Humanities Research Centers on Artificial Intelligence grant program, submitted to the Division of Research Programs.

2. Date: March 26, 2024.

This video meeting will discuss applications on the topics of Law, Politics, and Democracy, for the Humanities Research Centers on Artificial Intelligence grant program, submitted to the Division of Research Programs.

3. Date: March 26, 2024.

This video meeting will discuss applications on the topics of Identity and Culture in AI, for the Humanities Research Centers on Artificial Intelligence grant program, submitted to the Division of Research Programs.

4. Date: March 27, 2024.

This video meeting will discuss applications on the topics of AI and Creativity, for the Humanities Research Centers on Artificial Intelligence grant program, submitted to the Division of Research Programs.

5. Date: March 28, 2024.

This video meeting will discuss applications on the topics of Theory and Philosophy of AI, for the Humanities Research Centers on Artificial Intelligence grant program, submitted to the Division of Research Programs.

6. Date: March 29, 2024.

This video meeting will discuss applications on the topics of Ethics and Trust, for the Humanities Research Centers on Artificial Intelligence grant program, submitted to the Division of Research Programs.

7. Date: March 29, 2024.

This video meeting will discuss applications on the topics of Ethics and Health Humanities, for the Humanities Research Centers on Artificial Intelligence grant program, submitted to the Division of Research Programs.

8. Date: April 2, 2024.

This video meeting will discuss applications on the topics of Collections and Access, for the Digital Humanities Advancement Grants program, submitted to the Office of the Digital Humanities.

9. Date: April 2, 2024.

This video meeting will discuss applications on the topics of Arts and Culture, for the Media Projects Production grant program, submitted to the Division of Public Programs.

10. Date: April 3, 2024.

This video meeting will discuss applications on the topic of Spatial and Computational Humanities, for the Digital Humanities Advancement Grants program, submitted to the Office of Digital Humanities.

11. Date: April 3, 2024.

This video meeting will discuss applications on the topic of World History, for the Media Projects Production grant program, submitted to the Division of Public Programs.

12. Date: April 4, 2024.

This video meeting will discuss applications on the topic of U.S. History, for the Media Projects Production grant program, submitted to the Division of Public Programs.

13. Date: April 4, 2024.

This video meeting will discuss applications on the topics of Text Analysis and Languages, for the Digital Humanities Advancement Grants program, submitted to the Office of Digital Humanities.

14. Date: April 5, 2024.

This video meeting will discuss applications on the topic of Podcasts, for the Media Projects Production grant program, submitted to the Division of Public Programs.

15. Date: April 8, 2024.

This video meeting will discuss applications on the topics of Philosophy and Religion, for the Institutes for Higher Education Faculty grant program, submitted to the Division of Education Programs.

16. Date: April 8, 2024.

This video meeting will discuss applications on the topics of Digital Humanities and Media Studies, for the Institutes for Higher Education Faculty grant program, submitted to the Division of Education Programs.

17. Date: April 9, 2024.

This video meeting will discuss applications on the topic of World History, for the Media Projects Production grant program, submitted to the Division of Public Programs.

18. Date: April 9, 2024.

This video meeting will discuss applications on the topics of Place, Civics, and U.S. History, for the Landmarks of American History and Culture grant program, submitted to the Division of Education Programs.

19. Date: April 9, 2024.

This video meeting will discuss applications on the topics of Land, Rights, and Perspectives, for the Landmarks of American History and Culture grant program, submitted to the Division of Education Programs.

20. Date: April 10, 2024.

This video meeting will discuss applications on the topic of U.S. History, for the Public Humanities Projects: Exhibitions (Implementation) grant program, submitted to the Division of Public Programs.

21. Date: April 10, 2024.

This video meeting will discuss applications on the topics of Teaching and Learning, for the Institutes for Higher Education Faculty grant program, submitted to the Division of Education Programs.

22. Date: April 10, 2024.

This video meeting will discuss applications on the topics of Sites, Sounds, and the Environment, for the Landmarks of American History and Culture grant program, submitted to the Division of Education Programs.

23. Date: April 11, 2024.

This video meeting will discuss applications on the topic of World History, for the Institutes for K-12 Educators grant program, submitted to the Division of Education Programs.

24. Date: April 11, 2024.

This video meeting will discuss applications on the topic of U.S. History, for the Institutes for K-12 Educators grant program, submitted to the Division of Education Programs.

25. Date: April 11, 2024.

This video meeting will discuss applications on the topic of Place-based History, for the Public Humanities Projects: Exhibitions (Implementation) grant program, submitted to the Division of Public Programs.

26. Date: April 12, 2024.

This video meeting will discuss applications on the topics of Arts and Culture, for the Media Projects Production grant program, submitted to the Division of Public Programs.

27. Date: April 12, 2024.

This video meeting will discuss applications on the topic of U.S. History, for the Institutes for K-12 Educators grant program, submitted to the Division of Education Programs.

28. Date: April 15, 2024.

This video meeting will discuss applications on the topics of Material Culture and Diaspora Studies, for the Institutes for K-12 Educators grant program, submitted to the Division of Education Programs.

29. Date: April 15, 2024.

This video meeting will discuss applications on the topics of World Languages and Border Studies, for the Institutes for K-12 Educators grant program, submitted to the Division of Education Programs.

30. Date: April 16, 2024.

This video meeting will discuss applications on the topics of Religious Studies and Philosophy, for the Institutes for K-12 Educators grant program, submitted to the Division of Education Programs.

31. Date: April 16, 2024.

This video meeting will discuss applications on the topic of Asian Studies, for the Institutes for Higher Education Faculty grant program, submitted to the Division of Education Programs.

32. Date: April 16, 2024.

This video meeting will discuss applications on the topics of Arts and Culture, for the Media Projects Production grant program, submitted to the Division of Public Programs.

33. Date: April 17, 2024.

This video meeting will discuss applications on the topics of Race, Place, and History, for the Landmarks of American History and Culture grant program, submitted to the Division of Education Programs.

34. Date: April 17, 2024.

This video meeting will discuss applications on the topic of English Language Arts, for the Institutes for K-12 Educators grant program, submitted to the Division of Education Programs.

35. Date: April 17, 2024.

This video meeting will discuss applications for the Public Humanities Projects: Humanities Discussions Grants program, submitted to the Division of Public Programs.

36. Date: April 18, 2024.

This video meeting will discuss applications on the topics of Migration, Belonging, and Place, for the Landmarks of American History and Culture grant program, submitted to the Division of Education Programs.

37. Date: April 18, 2024.

This video meeting will discuss applications on the topic of World History, for the Media Projects Production grant program, submitted to the Division of Public Programs.

38. Date: April 19, 2024.

This video meeting will discuss applications on the topic of U.S. History, for the Public Humanities Projects: Exhibitions (Implementation) grant program, submitted to the Division of Public Programs.

39. Date: April 19, 2024.

This video meeting will discuss applications for the Institutes for Advanced Topics in the Digital Humanities grant program, submitted to the Office of Digital Humanities.

40. Date: April 24, 2024.

This video meeting will discuss applications for the Institutes for Advanced Topics in the Digital Humanities grant program, submitted to the Office of Digital Humanities

41. Date: April 25, 2024.

This video meeting will discuss applications on the topic of U.S. History, for the Media Projects Production grant program, submitted to the Division of Public Programs.

Because these meetings will include review of personal and/or proprietary financial and commercial information given in confidence to the agency by grant applicants, the meetings will be closed to the public pursuant to sections 552b(c)(4) and 552b(c)(6) of Title 5, U.S.C., as amended. I have made this determination pursuant to the authority granted me by the Chair's Delegation of Authority to Close Advisory Committee Meetings dated April 15, 2016.

Dated: March 8, 2024.
Jessica Graves,
Paralegal Specialist, National Endowment for the Humanities.

[FR Doc. 2024-05361 Filed 3-13-24; 8:45 am]

BILLING CODE 7536-01-P